DEPARTMENT OF HEALTH AND HUMAN SERVICES

Centers for Medicare and Medicaid Services

[Document Identifier: CMS-R-70, CMS-2567, CMS-R-107]

Agency Information Collection Activities: Submission for OMB Review; Comment Request

Agency: Centers for Medicare and Medicaid Services.

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Requirements in HSQ-110, Acquisition, Protection and Disclosure of Peer Review Organization Information and Supporting Regulations in 42 CFR, Sections 480.104, 480.105, 480.116, and 480.134.; Form No.: CMS-R-70 (OMB# 0938-0426); Use: The Peer Review Improvement Act of 1982 authorizes quality improvement organizations (QIOs), formally known as PROs, to acquire information necessary to fulfill their duties and functions and places limits on disclosure of the information. These requirements are on the QIOs to provide notices to the affected parties when disclosing information about them. These requirements serve to protect the rights of the affected parties. Frequency: On occasion; Affected Public: Business or other for-profit, Individuals or Households, and Not-for-profit institutions; Number of Respondents: 362; Total Annual Responses: 3,729; Total Annual Hours: 60,919.

2. Type of Information Collection Request: Extension of a currently approved collection; Title of Information Collection: Statement of Deficiencies and Plan of Correction and Supporting Regulations in 42 CFR 488.18, 488.26, and 488.28; Form No.: CMS-2567 (OMB# 0938-0391); Use: This Paperwork package provides information regarding the form used by the Medicare, Medicaid, and the Clinical Laboratory Improvement Amendments (CLIA) programs to document a health care facility's compliance or noncompliance (deficiencies) with regard to the Medicare/Medicaid Conditions of Participation and Coverage, the requirements for participation for Skilled Nursing Facilities and Nursing Facilities, and for certification under CLIA. This form becomes the basis for both public disclosure of information and CMS certification decisions (including termination or denial of participation); Frequency: Biennially and Annually; Affected Public: Business or other for-profit, Not-for-profit institutions, Federal Government, and State, Local or Tribal Government; Number of Respondents: 60,000; Total Annual Responses: 60,000; Total Annual Hours: 120,000.

3. Type of Information Collection Request: Reinstatement, with change, of a previously approved collection for which approval has expired; Title of Information Collection: Determining Third Party Liability (TPL) State Plan Preprint and Supporting Regulations in 42 CFR 433.138; Form No.: CMS-R-107 (OMB# 0938-0502); Use: The collection of third party liability information results in significant program savings to the extent that liable third parties can be identified and payments can be made for services that would otherwise be paid for by the Medicaid program. Frequency: On occasion; Affected Public: Individuals or Households, Federal Government, and State, Local, or Tribal Government; Number of Respondents: 1,900,000; Total Annual Responses: 1,900,000; Total Annual Hours: 329,965.

To obtain copies of the supporting statement and any related forms for the proposed paperwork collections referenced above, access CMS Web Site address at http://cms.hhs.gov/regulations/pra/default.asp, or E-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503.

Dated: November 14, 2002.
John P. Burke III,
Paperwork Reduction Act Team Leader, CMS Reports Clearance Officer, Office of Strategic Operations and Regulatory Affairs, Division of Regulations Development and Issuances.

[FR Doc. 02-29711 Filed 11-21-02; 8:45 am]

BILLING CODE 4120-03-P